ENVIRONMENTAL PROTECTION AGENCY

[FRL-7901-8]

Proposed Penalty Order Issued Under the Clean Water Act and Safe Drinking Water Act; Notice of Intent To Provide Internet Notice

AGENCY: Environmental Protection Agency (EPA).

ACTION: Notice.

SUMMARY: Notice is hereby given that the Environmental Protection Agency (EPA), Region 5, will issue notices of proposed penalty orders issued under the Clean Water Act and the Safe Drinking Water Act via the Internet.

DATES: U.S. EPA Region 5 will commence use of Internet notice on May 26, 2005.

ADDRESSES: The address of the Internet notice site is: http://www.epa.gov/region5/publicnotices.

FOR FURTHER INFORMATION CONTACT: Richard R. Wagner, Senior Attorney Office of Regional Counsel, U.S. Environmental Protection Agency, Region 5, 77 West Jackson Boulevard, Chicago, Illinois 60604, or telephone him at (312) 886-7947.

SUPPLEMENTARY INFORMATION: By statute the Administrator of EPA is required to provide notice of many of its actions, and his officers and staff commonly do so through notification in newspapers of general circulation. However, given the current state of technology, Internet notice may provide a more effective and efficient means to provide such notice. The benefits of such notice include the speed with which such notices can be delivered as well as the relatively low cost to the public treasury of providing such notices. In addition, in practice, newspaper notices may not always reach the broadest audience. This is for two reasons. First, newspaper notices are nearly always published on one day only, irrespective of the length of any associated comment period. Secondly, in an attempt to provide notice to those most likely to be affected by an action, notice is often published in local newspapers. However, these newspapers often have very finite distribution areas, and, as a consequence, interested individuals outside those distribution areas may have difficulty in obtaining the notices. Internet notice would provide more robust review of its proposed actions by allowing the notice to remain available to the public during the entirety of the comment period, and by providing access to a far greater audience than is possible under current practices. Benefits to the public include the relative ease of access, and low cost of access resulting from the opportunity to access a larger number of notices, in one place, for a longer period of time. We recognize that not all members of the public may have ready access to the Internet, however due to the considerations listed above, as well as the general availability of the Internet through schools, work and libraries, we believe that Internet notice will likely reach a larger audience than has the past practice of publishing a notice in a newspaper. Nonetheless, in particular instances where we believe additional notice may be helpful, we may supplement the Internet notice with newspaper notice, press release or other forms of communication.

Under the authority of the Administrator, Region 5 intends to commence Internet notice only for a subset of notices relating to proposed penalty orders issued under Sections 309(g) and 311(b)(6) of the Clean Water Act, 33 U.S.C 1319(g) and 33 U.S.C 1321(b)(6), respectively, as well as Section 1423(c)(3) of the Safe Drinking Water Act, 42 U.S.C. 300h-2(c)(3)(B). Under these provisions, the Administrator is authorized to assess civil penalties for violations of the Clean Water Act and the Safe Drinking Water Act, after providing the alleged violator notice of the proposed penalty and an opportunity for a hearing. Notice of the proposed penalty, and opportunity to provide comment must also be provided to interested members of the public. The Administrator by rule at 40 CFR Part 22 provides that notice to the public may be made “by a method reasonably calculated to provide notice.* * *” 40 CFR 22.45(b)(2). Given the wide use of the Internet among the public and the relatively greater accessibility provided by the Internet when compared to traditional means of notice, Region 5 believes that Internet notice of these orders meets the regulatory requirements of 40 CFR 22.45(b)(2).

The Region notes that public notice of certain proposed permitting actions under the National Pollutant Discharge Elimination System has been provided through the Internet for several years. The Region intends to continue this practice, as well as to explore options for expanding use of Internet notice to other types of Agency actions. If EPA Region 5 decides to commence use of the Internet to provide notice of additional classes of Agency actions, notice of that decision will be provided first in the Federal Register.

Norman Niedergang,
Acting Regional Administrator, Region V.

[FR Doc. 05-8319 Filed 4-25-05; 8:45 am]

BILLING CODE 6560-50-P